DEPARTMENT OF JUSTICE

Notice of Lodging of Consent Decree Under the Comprehensive Environmental Response, Compensation, and Liability Act of 1980, as Amended

Under 28 CFR 50.7, notice is hereby given that on April 2, 2003, a proposed Consent Decree (“Decree”) in the consolidated cases of United States v. CHS Holding Corp., Civil Action No. 1994/0126 (STX-F), and Berlex Laboratories, Inc. v. Cooper Holdings, Inc., Civil Action No. 1988/194, was lodged with the United States District Court for the District of the Virgin Islands.

In this action, the United States sought reimbursement of response costs incurred by the United States Environmental Protection Agency (“EPA”) in connection with clean up activities at the Island Chemical Superfund Site (“Site”) located in St. Croix, U.S. Virgin Islands. The proposed Decree will resolve the United States' claims under the Comprehensive Environmental Response, Compensation, and Liability Act (“CERCLA”), 42 U.S.C. 9601 et seq., on behalf of the EPA against settling defendant CHS Holding Corporation (“CHS”) relating to the Site. The settling defendant is alleged to be liable under section 107(a)(2) of CERCLA as the owner of the Site. The Decree provides that the settling defendant shall make all good faith efforts to sell the Site property and shall pay to the United States 100% of the net proceeds from the sale of the Site property.

The Department of Justice will receive, for a period of thirty (30) days from the date of this publication, comments relating to the Decree. Comments should be addressed to the Assistant Attorney General, Environment and Natural Resources Division, PO Box 7611, U.S. Department of Justice, Washington, DC 20044-7611, and should refer to United States v. CHS Holding Corp., D.J. Ref. No. 90-11-2-954.

The Decree may be examined at the Office of the United States Attorney, District of the United States Virgin Islands, 1108 King Street, Suite 201, Christiansted, St. Croix, U.S. Virgin Islands 00820, and at the U.S. Environmental Protection Agency, Region II, 290 Broadway, New York, New York 10007-1866. During the public comment period, the Decree may also be examined on the following Department of Justice Web site, http://usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.25 (25 cents per page reproduction cost) payable to the U.S. Treasury.

Ronald Gluck,
Environmental Enforcement Section, Environment and Natural Resources Division.

[FR Doc. 03-10080 Filed 4-23-03; 8:45 am]

BILLING CODE 4410-15-M